DEPARTMENT OF COMMERCE

National Oceanic and Atmospheric Administration

[RTID 0648-XE847]

Endangered and Threatened Species; Take of Abalone

AGENCY: National Marine Fisheries Service (NMFS), National Oceanic and Atmospheric Administration (NOAA), Commerce.

ACTION: Notice of receipt of application to renew one scientific research and enhancement permit; request for comments.

SUMMARY: Notice is hereby given that NMFS has received a request to renew an existing scientific research and enhancement permit for white abalone. The proposed work is intended to increase knowledge of species listed under the Endangered Species Act (ESA) and to help guide management, conservation, and recovery efforts. The application may be viewed online at: https://apps.nmfs.noaa.gov/preview/preview_open_for_comment.cfm.

DATES: Comments or requests for a public hearing on the application must be received at the provided email address (see ADDRESSES) on or before June 6, 2025.

ADDRESSES: All written comments on the application should be submitted by email to nmfs.wcr-apps@noaa.gov. Please include the permit number (18116-2R) in the subject line of the email.

Anyone requesting a hearing on the application listed in this notice should set out the specific reasons why a hearing on the application would be appropriate, submitted by email to nmfs.wcr-apps@noaa.gov. Such hearings are held at the discretion of the Assistant Administrator for Fisheries, NMFS.

FOR FURTHER INFORMATION CONTACT: Susan Wang, Long Beach, CA (email: Susan.Wang@noaa.gov; phone: (562) 980-4199). Permit application instructions are available from the address above, or online at https://apps.nmfs.noaa.gov.

SUPPLEMENTARY INFORMATION:

Species Covered in This Notice

The following listed species are covered in this notice:

Endangered white abalone (Haliotis sorenseni).

Authority

Scientific research and enhancement permits are issued in accordance with section 10(a)(1)(A) of the ESA (16 U.S.C. 1531 et seq.) and regulations governing listed fish and wildlife permits (50 CFR parts 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Application Received

Permit 18116-2R

The NMFS West Coast Region (WCR) has requested to renew a research and enhancement permit that currently authorizes a field outplanting program for white abalone. The permit allows the NMFS WCR and approved partners to outplant captive-bred larval, juvenile, and adult white abalone from captive facilities to various subtidal field sites along the southern California coast and to monitor white abalone at these sites over time. The requested permit renewal would allow these activities to continue for an additional 5 years.

The purpose of the proposed research and enhancement activities is to develop an effective strategy for recovering white abalone throughout the species' range. The permit renewal would allow researchers to continue outplanting efforts and optimizing methods (including life stages, outplant densities, selection of outplant sites) to maximize the growth and survival of outplanted abalone. The proposed work would benefit the listed species by increasing the numbers of white abalone in the wild to create self-sustaining populations in locations where white abalone are close to or at local extinction.

Activities would include field outplanting of white abalone at the larval, juvenile, and adult stages, as well as post-outplant monitoring to assess the survival, distribution, growth, and health of outplanted abalone. Captive-reared larval abalone would be outplanted using polyvinyl chloride (PVC) larval pump modules into plankton net “tents” designed to retain larvae until settlement. Captive-bred juveniles and small adults would be outplanted using semi-protected, non-permanent cages to provide temporary shelter and initial protection from predators. Captive-bred adults would be hand-placed in aggregations. All outplanting would be conducted within the Southern California Bight and would use white abalone maintained and collected under Enhancement Permit 14344-3R, issued under section 10(a)(1)(A) of the ESA to the University of California, Davis—Bodega Marine Laboratory. Growth, survival, genetics, health, and habitat quality would be monitored at regular intervals following outplanting. Post-outplant monitoring would primarily consist of observing, counting, and measuring the abalone, and collecting tissue and fecal samples using non-lethal methods. The researchers do not intend to kill any white abalone, but some may die as an inadvertent result of the research and enhancement activities. Dead and obviously unhealthy abalone as well as empty shells may be collected for further analysis and for use in research, education, and outreach.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: April 30, 2025.
Kimberly Damon-Randall,
Director, Office of Protected Resources, National Marine Fisheries Service.

[FR Doc. 2025-07903 Filed 5-6-25; 8:45 am]

BILLING CODE 3510-22-P